DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Cross-site Evaluation of the Garrett Lee Smith Memorial Suicide Prevention and Early Intervention Programs—NEW

The Substance Abuse and Mental Health Services Administration's (SAMHSA), Center for Mental Health Services (CMHS) will conduct the cross-site evaluation of the Garrett Lee Smith Memorial Suicide Prevention and Early Intervention State/Tribal Programs and the Garrett Lee Smith Memorial Suicide Prevention Campus Programs. The data collected through the cross-site evaluation will address four stages of program activity: (1) The context stage will assess the existing databases and availability of data sources, (2) the product stage will describe the products and services that are developed and utilized by these programs, (3) the process stage will assess the progress on key activities and milestones related to implementation of program plans, and (4) the impact stage will assess the impact of program activities on youth/students, gatekeepers, faculty/staff, and program partners within States/Tribal sites and campus sites.

Data will be collected from suicide prevention program staff (project directors, evaluators), key program stakeholders (state/local officials, child-serving agency directors, gatekeepers, mental health providers, campus administrators), training participants, college students, and campus faculty/staff. Data collection will take place in 14 State/Tribal sites and 22 campus sites. Data collection for the cross-site evaluation will be conducted over a three-year period that spans FY 2006 through FY 2008. Because the State/Tribal grantees differ from the campus grantees in programmatic approaches, specific data collection activities also vary by type of program. The following describes the specific data collection activities and the 15 data collection instruments to be used, followed by a summary table of number of respondents and respondent burden:

• Existing Database Inventory (2 versions). The Existing Database Inventory includes two versions to be administered to one respondent from (1) the 14 State/Tribal grantees and (2) the 22 Campus grantees. The Existing Database Inventory will be completed once in year FY 2007 and once in FY 2008 of the cross-site evaluation by program staff. The questions included assess the availability of existing data, the integration of data systems, and the data elements that may or may not be collected in each system. The Existing Database Inventory will take approximately 30 minutes to complete and the number of existing databases within each grantee site will determine the number of items to complete. Questions on the Existing Database Inventory are open-ended and multiple choice.

• Product and Services Inventory—State/Tribal (2 versions). The Product and Services Inventory for State/Tribal grantees includes 2 versions. The State/Tribal grantees will complete the State/Tribal Product and Services Inventory—Baseline version once in FY 2006 and the State/Tribal Product and Services Inventory—Follow-up version quarterly thereafter in FY 2007 and FY 2008. The baseline version assesses the development and utilization of products and services during the first year of grant funding, and the follow-up version updates the development of products and services on a quarterly basis. These products and services may include awareness campaign products and materials; risk identification training materials and workshops; and enhanced services, including early intervention, family support, and postsuicide intervention services, as well as evidence-based programs. Both versions of the State/Tribal Product and Services Inventory will take approximately 45 minutes and the number of products and services developed and utilized within each grantee site will determine the number of items to complete. Questions on both versions of the State/Tribal Product and Services Inventory are open-ended and multiple choice.

• Product and Services Inventory—Campus (2 versions). The Product and Services Inventory for Campus grantees includes 2 versions. The Campus grantees will complete the Campus Product and Services Inventory—Baseline version once in FY 2006 and will complete the Campus Product and Services Inventory—Follow-up version quarterly thereafter in FY 2007 and 2008. The baseline version assesses the development and utilization of products and services during the first year of grant funding, and the follow-up version updates the development of products and services on a quarterly basis. These products and services may include awareness campaign products and materials; risk identification training materials and workshops; and enhanced services, including early intervention, family support, and postsuicide intervention services, as well as evidence-based programs. Both versions of the Campus Product and Services Inventory will take approximately 45 minutes and the number of products and services developed and utilized within each grantee site will determine the number of items to complete. Questions on both versions of the State/Tribal Product and Services Inventory are open-ended and multiple choice.

• Referral Network Survey (1 version). The Referral Network Survey will be administered to representatives of organizations and/or agencies involved in the referral networks that support the 14 State/Tribal suicide prevention programs. Based on estimates of the number referral networks and referral network agencies across the 14 grantees, it is estimated that there will be a total of 1,248 respondents, or 416 per year. The questions included on the Referral Network Survey will describe the referral networks, the agencies and organizations involved and at what level and the types of agency agreements and protocols are in place to support youth who are identified at risk for suicide. Questions on the Referral Network Survey include multiple-choice, Likert-scale, and open-ended. The Referral Network Survey includes 37 items and will take approximately 40 minutes to complete.

• Training Exit Survey (1 version). The Training Exit Survey will be administered to participants in suicide prevention training activities held in the 14 State/Tribal sites following their participation in training activities. Data will be collected from approximately 14,000 training participants, or 4,667 per year, one time immediately following their training experience in each year of the cross-site evaluation. The questions on the Training Exit Survey obtain information to assess the content of the training, the participants' intended use of the skills and knowledge learned, and satisfaction with the training experience. Questions on the Training Exit Survey include multiple-choice, Likert-scale, and open-ended. The Training Exit Survey includes 34 items and will take approximately 10 minutes to complete.

• Training Utilization and Penetration (TUP) Key Informant Interview (1 version). The TUP Key Informant Interview is a qualitative follow-up interview administered to individuals who participated in training activities as part of the State/Tribal suicide prevention programs. One training activity will be identified in each of the 14 State/Tribal sites and five key informants who completed the selected training will be randomly selected for participation, for a total of 70 respondents, or 23 respondents per year. The TUP will be administered within 2 months of the training experience to assess whether the suicide prevention knowledge, skills and/or techniques learned through training were utilized and had an impact on youth. The interviews will include close-ended background questions, with the remaining questions being open-ended and semi-structured. The TUP includes 23 items and will take approximately 40 minutes to complete.

• Suicide Prevention Exposure, Awareness and Knowledge Survey (SPEAKS)—Student Version (1 version). The SPEAKS—Student version assesses the exposure, awareness and knowledge of suicide prevention activities among the student population on campus as result of the suicide prevention program. Questions include whether students have been exposed to suicide prevention materials, their agreement with myths and facts about suicide, and the availability of resources to provide assistance to those at risk for suicide. The SPEAKS—Student Version will be administered to 8,800 respondents, or 2,933, per year. A random sample of students will be drawn without replacement in each year of administration. The SPEAKS—Student Version is web-based and includes multiple-choice, Likert-scale and true/false questions. The SPEAKS—Student Version includes 53 items and will take approximately 15 minutes to complete.

• Suicide Prevention Exposure, Awareness and Knowledge Survey (SPEAKS)—Faculty/Staff Version (1 version). The SPEAKS—Faculty/Staff version assesses the exposure, awareness and knowledge of suicide prevention activities among faculty/staff on campus as result of the suicide prevention program. Questions include whether faculty/staff have been exposed to suicide prevention materials, their agreement with myths and facts about suicide, and the availability of resources to provide assistance to those at risk for suicide. The SPEAKS—Faculty/Staff version will be administered to 2,200 respondents, or 733 per year. A random sample of faculty/staff will be drawn without replacement in each year of administration. The SPEAKS—Faculty/Staff Version is web-based and includes multiple-choice, Likert-scale and true/false questions. The SPEAKS—Faculty/Staff Version includes 52 items and will take approximately 15 minutes to complete.

• Campus Infrastructure Interviews (4 versions). The Campus Infrastructure Interviews include 4 versions of the qualitative interviews to be administered to five different respondent types; (1) Administrator, (2) Student Group Leader, (3) Counseling Center Staff, (4) Faculty/Staff-human services department, and (5) Faculty/Staff-non-human service department. Five individuals from each of the 22 Campus sites will be selected as key informants to participate in the Campus Infrastructure Interview either in FY 2007 or in FY 2008, for a total of 110 respondents. Questions on the Campus Infrastructure Interview include whether respondents are aware of suicide prevention activities, what the campus culture is related to suicide prevention, and what specific efforts are in place to prevent suicide among the campus population. Questions will include close-ended background questions, with the remaining questions being open-ended and semi-structured. The Campus Infrastructure Interviews include 29 items and will take approximately 60 minutes to complete.

In addition to the above described data collection activities, data from existing sources (i.e., management information systems (MIS), administrative records, case files, etc.) will be analyzed across grantee sites to support the impact stage of the cross-site evaluation. Specifically, for the cross-site evaluation of the State/Tribal Programs, existing program information related to the number of youth identified at risk as a result of screening or early identification activities, the youth who are referred for services, and the youth who present for services will be analyzed by the cross-site evaluation team to determine the impact of suicide prevention program activities. For the cross-site evaluation of the Campus programs, existing program data related to the number of students who are at risk for suicide, the number who seek services, and the type of services received will be analyzed to determine the impact of Campus program activities on the student and campus populations. Because this information is obtained through existing sources, data collection instruments were not developed as part of the cross-site evaluation and no identifiable respondents exist; therefore no respondent burden has been estimated.

Internet-based technology will be used for collecting data via Web-based surveys, and for data entry and management. The average annual respondent burden is estimated below. The estimate reflects the total respondents across project years, the average annual number of respondents, the average annual number of responses, the time it will take for each response, and the average annual burden.

Total and Annual Averages: Respondents, Responses and Hours
Measure name | Total number of respondents (across 3 project years) | Annualized number of respondents | Annualized number responses/ respondent | Hours/ response | Annualized response burden*
Existing Database Inventory-State version | 14 | 14 | 1 | 0.50 | 7
Existing Database Inventory-Campus version | 22 | 22 | 1 | 0.50 | 11
Product and Services Inventory-State version-baseline | 14 | 14 | 1 | 0.75 | 11
Product and Services Inventory-State version-follow-up | 14 | 14 | 2 | 0.75 | 21
Product and Services Inventory-Campus version-baseline | 22 | 22 | 1 | 0.75 | 17
Product and Services Inventory-Campus version-follow-up | 22 | 22 | 2 | 0.75 | 33
Training Exit Survey | 14,000 | 4,667 | 1 | 0.17 | 793
Training Utilization and Penetration (TUP) Key Informant Interview | 70 | 23 | 1 | 0.67 | 15
Referral Network Survey | 1,248 | 416 | 1 | 0.67 | 279
Suicide Prevention Exposure, Awareness and Knowledge Survey-Student Version (SPEAKS-S) | 8,800 | 2,933 | 1 | 0.25 | 733
Suicide Prevention Exposure, Awareness and Knowledge Survey-Faculty/Staff (SPEAKS-FS) | 2,200 | 733 | 1 | 0.25 | 183
Campus Infrastructure Interview-Student Leader Version | 22 | 7 | 1 | 1.0 | 7
Campus Infrastructure Interview-Faculty/Staff Version | 44 | 15 | 1 | 1.0 | 15
Campus Infrastructure Interview-Administrator Version | 22 | 7 | 1 | 1.0 | 7
Campus Infrastructure Interview-Counseling Center Staff Version | 22 | 7 | 1 | 1.0 | 7
Total | 26,536 | 8,916 |  |  | 2,139
*Rounded to the nearest whole number.

Send comments to Summer King, SAMHSA Reports Clearance Officer, Room 7-1044, One Choke Cherry Road, Rockville, MD 20857. Written comments should be received within 60 days of this notice.

Dated: June 7, 2006.
Anna Marsh,
Director, Office of Program Services.

[FR Doc. E6-9172 Filed 6-12-06; 8:45 am]

BILLING CODE 4162-20-P